DEPARTMENT OF HOMELAND SECURITY

Federal Emergency Management Agency

[Docket ID FEMA-2025-0003]

Assistance to Firefighters Grant Program

AGENCY: Federal Emergency Management Agency (FEMA), Department of Homeland Security (DHS).

ACTION: Notice.

SUMMARY: Pursuant to the Federal Fire Prevention and Control Act of 1974, as amended, the Administrator of FEMA is publishing this notice describing the fiscal year (FY) 2024 Assistance to Firefighters Grant (AFG) Program application process, deadlines, and award selection criteria. This notice explains the differences, if any, between these guidelines and those recommended by representatives of the national fire service leadership during the annual meeting of the Criteria Development Panel (CDP), which was held July 9, 2024. The application period for the FY 2024 AFG Program was Nov. 12, 2024-Dec. 20, 2024, and was announced on the FEMA AFG Program website at https://www.fema.gov/grants/preparedness/firefighters, as well as at https://www.grants.gov.

DATES: Grant applications for the FY 2024 AFG Program are being accepted electronically through the FEMA Grants Outcomes (FEMA GO) system at https://go.fema.gov/, through 5 p.m. ET on Dec. 20, 2024.

ADDRESSES: DHS/FEMA/Grant Programs Directorate, Assistance to Firefighters Grants Branch, 400 C St. SW, 3N, FEMA Headquarters, Washington, DC 20472-3635.

FOR FURTHER INFORMATION CONTACT: Paul Parsons, Chief, Assistance to Firefighters Grants Branch, 1-866-274-0960 or FireGrants@fema.dhs.gov.

SUPPLEMENTARY INFORMATION: The AFG program awards grants directly to fire departments, nonaffiliated emergency medical service (EMS) organizations, and state fire training academies (SFTA) for enhancing the health and safety of first responders and improving their abilities to protect the public from fire and fire-related hazards. Applications for the FY 2024 AFG Program are submitted and processed online through https://go.fema.gov/. Before the application period started, the FY 2024 AFG Program Notice of Funding Opportunity (NOFO) was published on FEMA's AFG Program website at https://www.fema.gov/grants/preparedness/firefighters/assistance-grants. The AFG Program website provides additional information and materials useful for FY 2024 AFG Program applicants, including Frequently Asked Questions, Application Checklist, AFG Narrative Development Toolkit, Self-Evaluation Sheets for Vehicle Acquisition and Operations Safety, and a Cost-Share Calculator. Based on past AFG Program application periods, FEMA anticipates receiving 8,000 to 10,000 AFG applications this year and $291,600,000 in available funding will support approximately 2,000 grant awards.

Congressional Appropriations

For the FY 2024 AFG Program, Congress appropriated $324 million through the Department of Homeland Security Appropriations Act, 2024, Public Law 118-47, Title III, Protection, Preparedness, Response, and Recovery, Federal Emergency Management Agency, Federal Assistance (2024 DHS Appropriations Act). From this amount, $291.6 million will be made available for FY 2024 AFG Program awards. In addition, section 33 of the Federal Fire Prevention and Control Act of 1974, as amended (15 U.S.C. 2229), requires that a minimum of 10% of available funds be expended for Fire Prevention and Safety (FP&S) Program grants. FP&S Program awards will be made directly to local fire departments and to local, regional, state, or national entities recognized for their expertise in the fields of fire prevention and firefighter safety research and development. The funds appropriated for FY 2024 are available for obligation and award until Sept. 30, 2025. The Federal Fire Prevention and Control Act of 1974 further directs FEMA to administer these appropriations according to the following requirements:

• Career fire departments: Not less than 25% of available grant funds.

• Volunteer fire departments: Not less than 25% of available grant funds.

• Combination fire departments and departments using paid-on-call firefighting personnel: Not less than 25% of available grant funds.

• Open competition (career, volunteer, and/or combination fire departments and departments using paid-on-call firefighting personnel): Not less than 10% of available grant funds awarded.

• EMS providers including fire departments and nonaffiliated EMS organizations: Not less than 3.5% of available grant funds awarded.

• Nonaffiliated EMS providers: Not more than 2% of the total available grant funds.

• State Fire Training Academies (SFTAs): Not more than 3% of available grant funds shall be collectively awarded to SFTA applicants, with a maximum of $500,000 per applicant.

• Vehicles: Not more than 25% of available grant funds may be used for the purchase of vehicles; by policy and based on recommendations, FEMA intends to dedicate 10% of those vehicle funds for ambulances.

• Micro grants: This is a voluntary funding limitation choice made by the applicant for requests submitted within the operations and safety activity. It is not an additional funding opportunity. Micro grants are awards that have a Federal participation (share) that does not exceed $75,000. Applicants that select micro grants may receive additional consideration for award. If an applicant selects micro grants in their application, they will be limited in the total amount of funding their organization can be awarded. If they are requesting funding in excess of $75,000 Federal participation, they should not select micro grants.

Background of AFG

Since 2001, AFG has awarded approximately $8.7 billion in grant funding to help firefighters and other first responders obtain critically needed equipment, protective gear, emergency vehicles, training, and other resources needed to protect the public and emergency personnel from fire and fire-related hazards. FEMA awards grants on a competitive basis to the applicants that best address the AFG Program's priorities and provide the most compelling justification. Applications that best address AFG Program priorities, as identified in the Application Evaluation Criteria, are reviewed by a panel composed of fire service personnel. The AFG Program has three program activities:

• Operations and Safety;

• Vehicle Acquisition; and

• Regional Projects.

The priorities for each activity are fully outlined in the funding notice.

Application Evaluation Criteria

Before making a grant award, FEMA is required by 31 U.S.C. 3354, as amended by the Payment Integrity Information Act of 2019, Public Law 116-117 (2020), 41 U.S.C. 2313, and 2 CFR 200.206 to review information available through any Office of Management and Budget-designated repositories of government-wide eligibility qualification or financial integrity information. Therefore, application evaluation criteria may include the following risk-based considerations of the applicant: (1) Financial stability; (2) quality of management systems and ability to meet management standards; (3) history of performance in managing Federal awards; (4) reports and findings from audits; and (5) ability to effectively implement statutory, regulatory, or other requirements.

FEMA will rank all complete and submitted applications based on how well they align with program priorities for the type of jurisdiction(s) served. Answers to activity-specific questions provide information used to determine each application's ranking relative to the stated program priorities.

Funding priorities and criteria for evaluating AFG applications are established by FEMA based on the recommendations from the Criteria Development Panel (CDP). The CDP is composed of fire service professionals who make recommendations to FEMA regarding creating new, or modifying previously established, funding priorities, as well as developing criteria for awarding grants. The content of the funding notice reflects implementation of the CDP's recommendations with respect to the priorities and evaluation criteria for awards.

The nine major fire service organizations represented on the CDP:

• Congressional Fire Service Institute

• International Association of Arson Investigators

• International Association of Fire Chiefs

• International Association of Fire Fighters

• International Society of Fire Service Instructors

• National Association of State Fire Marshals

• National Fire Protection Association

• National Volunteer Fire Council

• North American Fire Training Directors

Review and Selection Process

AFG applications are reviewed through a multi-phase process. All applications are electronically pre-scored and ranked based on how well they align with the funding priorities outlined in the funding notice. Applications with the highest pre-score rankings are then scored competitively by no less than three members of a Peer Review Panel. Applications are also evaluated through a series of internal FEMA review processes for completeness, adherence to programmatic guidelines, technical feasibility, and anticipated effectiveness of the proposed project(s). Below is the process by which applications are reviewed:

1. Pre-Scoring Process

The application undergoes an electronic pre-scoring process based on established program priorities listed in the funding notice and answers to activity-specific questions within the online application. Application narratives are not reviewed during pre-scoring. Request details and budget information should comply with program guidance and statutory funding limitations. The pre-score is 50% of the total application score.

2. Peer Review Panel Process

Applications with the highest pre-score undergo peer review. The peer review is comprised of fire service representatives recommended by the organizations represented on the CDP. The panelists assess the merits of each application based on the narrative section of the application, including the evaluation elements listed in the Narrative Evaluation Criteria below. Panelists independently score each project within the application, discuss the merits and/or shortcomings of the application with their peers, and document the findings. A consensus is not required. The panel score is 50% of the total application score.

3. Technical Evaluation Process

The highest ranked applications will be considered within the fundable range. Applications that are in the fundable range will undergo both a Technical Review by a subject-matter expert as well as a FEMA Program Office review before being recommended for award. The FEMA Program Office will assess the request with respect to costs, quantities, feasibility, eligibility, and recipient responsibility prior to recommending any application for award. Once the Technical Evaluation Process is complete, each application's cumulative score will be determined, and a final ranking of applications will be created. FEMA will award grants based on this final ranking and the ability to meet statutorily required funding limitations outlined in the funding notice.

Narrative Evaluation Criteria

1. Financial Need (25%)

Applicants should describe their financial need and how consistent it is with the intent of the AFG Program. This statement should include details describing the applicant's financial distress, summarized budget constraints, unsuccessful attempts to secure other funding, and proof that their financial distress is out of their control.

2. Project Description and Budget (25%)

This statement should clearly explain the applicant's project objectives and the relationship between those objectives and the applicant's budget and risk analysis. The applicant should describe the activities, including program priorities or facility modifications, ensuring consistency with project objectives, the applicant's mission, and any national, state and/or local requirements. Applicants should link the proposed expenses to operations and safety, as well as the completion of the project goals.

3. Cost Benefit (25%)

Applicants should describe how they plan to address the operations and personal safety needs of their organization, including cost effectiveness and sharing assets. This statement should also include details about gaining the maximum benefits from grant funding by citing reasonable or required costs, such as specific overhead and administrative costs. The applicant's request should also be consistent with their mission and identify how funding will benefit their organization and personnel.

4. Statement of Effect on Daily Operations (25%)

This statement should explain how these funds will enhance the applicant's overall effectiveness. It should address how an award will improve daily operations and reduce the applicant's risks. Applicants should include how frequently the requested items will be used, and in what capacity. Applicants should also indicate how the requested items will help the community and increase the organization's ability to save additional lives or property. Jurisdictions that demonstrate their commitment and proactive posture to reducing fire risk, by explaining their code enforcement (to include Wildland Urban Interface code enforcement) and mitigation strategies (including whether the jurisdiction has a FEMA-approved mitigation strategy) may receive stronger consideration under this criterion.

Eligible Applicants

Fire Departments: Fire departments operating in any of the 50 states, as well as fire departments in the District of Columbia, the Commonwealth of the Northern Mariana Islands, the U.S. Virgin Islands, Guam, American Samoa, the Commonwealth of Puerto Rico, or any federally recognized Indian Tribe or tribal organization. A fire department is an agency or organization having a formally recognized arrangement with a state, territory, local (city, county, parish, fire district, township, town or other governing body), or tribal authority to provide fire suppression to a population within a geographically fixed primary first due response area.

Nonaffiliated EMS organizations: Nonaffiliated EMS organizations operating in any of the 50 states, as well as the District of Columbia, the Commonwealth of the Northern Mariana Islands, the U.S. Virgin Islands, Guam, American Samoa, the Commonwealth of Puerto Rico, or any federally recognized Indian Tribe or tribal organization. A nonaffiliated EMS organization is an agency or organization that is a public or private nonprofit emergency medical services entity providing medical transport that is not affiliated with a hospital and does not serve a geographic area in which emergency medical services are adequately provided by a fire department. FEMA considers the following as hospitals under the AFG Program:

• Clinics;

• Medical centers;

• Medical colleges or universities;

• Infirmaries;

• Surgery centers; and

• Any other institutions, associations, or foundations providing medical, surgical, or psychiatric care and/or treatment for the sick or injured.

State Fire Training Academies: SFTAs operating in any of the 50 states, as well as the District of Columbia, the Commonwealth of the Northern Mariana Islands, the U.S. Virgin Islands, Guam, American Samoa, or the Commonwealth of Puerto Rico. Applicants must be designated either by legislation or by a Governor's declaration as the sole fire service training agency within a state, territory, or the District of Columbia and recognized by the National Fire Academy. The designated SFTA shall be the only agency/bureau/division, or entity within that state, territory, or the District of Columbia to be an eligible SFTA applicant under the AFG Program.

Non-Federal airport and/or port authority fire or EMS organizations: These entities are eligible only if they have a formally recognized arrangement with the local jurisdiction to provide fire suppression or emergency medical services on a first-due basis outside the confines of the airport or port facilities. Airport or port authority fire and EMS organizations whose sole responsibility is suppression of fires or EMS response on the airport grounds or port facilities are not eligible for funding under the AFG Program.

Ineligibility

FEMA considers two or more separate fire departments or nonaffiliated EMS organizations with different funding streams, personnel rosters, and Employer Identification Numbers (EIN) but sharing the same facilities, as being separate organizations for the purposes of AFG eligibility. If two or more organizations share facilities and each submits an application in the same program area (i.e., Equipment, Modifications to Facilities, Personal Protective Equipment (PPE), Training, or Wellness and Fitness Programs), FEMA reserves the right to review all of those program area applications for eligibility. This determination is designed to avoid the duplication of benefits.

Examples of ineligible applications and/or organizations include:

• Nonaffiliated EMS organization requests for any activity that is specific or unique to structural/proximity/wildlands firefighting gear.

• Fire departments that are a Federal Government entity, or contracted by the Federal Government, and are solely responsible under a formally recognized agreement for suppression of fires on Federal installations or land.

• Fire departments or nonaffiliated EMS organizations that are not independent entities but are part of, controlled by, or under the day-to-day operational command and control of a larger department, agency or Authority Having Jurisdiction (AHJ).

○ However, if a fire department is considered to be the same legal entity as a municipality or other governmental organization, and otherwise meets the eligibility criteria, that municipality or other governmental organization may apply on behalf of that fire department as long as the application clearly states that the fire department is considered part of the same legal entity.

• Fire-based EMS organization applying as a nonaffiliated EMS organization.

• Auxiliaries, hospitals or fire service associations or interest organizations that are not the AHJ over the applicant.

• Dive teams, search and rescue squads, or similar organizations that do not provide medical transport.

• Fire departments, regional or nonaffiliated EMS organizations that are for profit.

• State or local agencies, or subsets of any governmental entity, or any authority that do not meet the requirements as defined by 15 U.S.C. 2229(a), (c).

• If an applicant submits two or more applications for the same equipment or other eligible activity (for example, if an applicant submits two or more applications, one under the Regional activity, and one under the Operations and Safety activity for self-contained breathing apparatus [SCBA]), both applications may be disqualified. If an applicant submits two separate applications for the same activity (i.e., two separate vehicle applications for the same vehicle) during the same application period, both applications may be disqualified.

○ This is different from when an entity is applying on behalf of other organizations that are agencies or instrumentalities of the applicant (e.g., multiple fire departments under the same county, city, borough, parish, or other municipality). In that situation, the applicant may request similar or the same equipment as long as the application clearly states which equipment (including quantities) is for which agency/instrumentality. This is permissible even if that entity submits multiple applications across regional versus direct applications.

○ Eligible Fire Department and nonaffiliated EMS applicants may submit only one application for each of the following application types: Individual Operations and Safety, Individual Vehicle, Regional Operations and Safety, and Regional Vehicle. Under the Operations and Safety applications, applicants may submit for multiple activities and for multiple items within each activity. Under the Vehicle application, applicants may submit one application for a vehicle activity (or activities) for their department and one separate application for a regional vehicle (the same vehicle(s) may not be requested for both purposes). All duplicate application submissions may be disqualified.

Statutory Limits to Funding

Congress has enacted statutory limits to the amount of funding that a grant recipient may receive from AFG in any single fiscal year based on the population served (15 U.S.C. 2229(c)(2)). Awards will be limited based on the size of the population protected by the applicant, as indicated below. Notwithstanding the annual limits stated below, the FEMA Administrator may not award a grant in an amount that exceeds 1% of the available grant funds in such fiscal year, except where it is determined that such recipient has an extraordinary need for a grant in an amount that exceeds the 1% aggregate limit.

• In the case of a recipient that serves a jurisdiction with 100,000 people or fewer, the amount of available grant funds awarded to such recipient shall not exceed $1 million in any fiscal year.

• In the case of a recipient that serves a jurisdiction with more than 100,000 people, but not more than 500,000 people, the amount of available grant funds awarded to such recipient shall not exceed $2 million in any fiscal year.

• In the case of a recipient that serves a jurisdiction with more than 500,000 people, but not more than 1 million people, the amount of available grant funds awarded to such recipient shall not exceed $2.91 million in any fiscal year.

• In the case of a recipient that serves a jurisdiction with more than 1 million people, but not more than 2.5 million people, the amount of available grant funds awarded to such recipient is subject to the 1% aggregate cap of $2.91 million for FY 2024. FEMA may waive this aggregate cap in individual cases where FEMA determines that a recipient has an extraordinary need for a grant that exceeds the aggregate cap. If FEMA waives the aggregate cap, the amount of grant funds awarded to such a recipient shall not exceed $6 million for any fiscal year.

• In the case of a recipient that serves a jurisdiction with more than 2.5 million people, the amount of available grant funds awarded to such recipient is subject to the 1% aggregate cap of $2.91 million for FY 2024. FEMA may waive this aggregate cap in individual cases where FEMA determines that a recipient has an extraordinary need for a grant that exceeds the aggregate cap. If FEMA waives the aggregate cap, the amount of grant funds awarded to such recipient shall not exceed $9 million for any fiscal year.

• FEMA may not waive the population-based limits on the amount of grant funds awarded as set by 15 U.S.C. 2229(c)(2)(A).

The cumulative total of the Federal share of awards in Operations and Safety, Regional, and Vehicle Acquisition activities will be considered when assessing award amounts and any limitations thereto. Applicants may request funding up to the statutory limit on each of their applications.

For example, an applicant that serves a jurisdiction with more than 100,000 people, but not more than 500,000 people, may request up to $2 million on their Operations and Safety Application and up to $2 million on their Vehicle Acquisition request. However, should both grants be awarded, the applicant would have to choose which award to accept if the cumulative value of both applications exceeds the statutory limits.

Cost Sharing and Maintenance of Effort

Grant recipients must share in the costs of the projects funded under this grant program as required by 15 U.S.C. 2229(k)(1) and in accordance with applicable Federal regulations at 2 CFR part 200, but they are not required to have the cost-share at the time of application nor at the time of award. However, before a grant is awarded, FEMA validates that the grant recipient has provided sufficient evidence that the cost-share requirement will be fulfilled during the performance period of the grant award.

In general, an eligible applicant seeking a grant shall agree to make available non-Federal funds equal to not less than 15% of the grant awarded. However, the cost share will vary as follows based on the size of the population served by the organization, with exceptions to this general requirement for entities serving smaller communities:

• Applicants that serve populations of 20,000 or less shall agree to make available non-Federal funds in an amount equal to not less than 5% of the grant awarded.

• Applicants serving areas with populations above 20,000, but not more than 1 million, shall agree to make available non-Federal funds in an amount equal to not less than 10% of the grant awarded.

• Applicants serving areas with populations above 1 million shall agree to make available non-Federal funds in an amount equal to not less than 15% of the grant awarded.

The cost share for SFTAs will apply the requirements above based on the total population of the state.

The cost share for a regional application will apply the requirements above based on the aggregate population of the primary first due response areas of the host and participating partner organizations that execute a Memorandum of Understanding as described in Appendix B, Section g., Regional Applications, of the FY 2024 AFG funding notice.

On a case-by-case basis, FEMA may allow a grant recipient that may already own assets (equipment or vehicles), acquired with non-Federal cash, to use the trade-in allowance/credit value of those assets as “cash” for the purpose of meeting the cost-share obligation of their AFG Program award. In-kind, cost-share matches are not allowed. Grant recipients under this grant program must also agree to a maintenance of effort requirement as required by 15 U.S.C. 2229(k)(3) (referred to as a “maintenance of expenditure” requirement in that statute). A grant recipient shall agree to maintain during the term of the grant the applicant's aggregate expenditures relating to the activities allowable under the funding notice at not less than 80% of the average amount of such expenditures in the two fiscal years preceding the fiscal year in which the grant amounts are received.

In cases of demonstrated economic hardship, and at the request of the grant recipient, the Administrator of FEMA may waive or reduce a grant recipient's cost-share requirement or maintenance of effort requirement. AFG applicants for FY 2024 must indicate at the time of application whether they are requesting a waiver and whether the waiver is for the cost-share requirement, for the maintenance of effort requirement, or both. As required by statute, the Administrator of FEMA is required to establish guidelines for determining what constitutes economic hardship. FEMA has published these guidelines on FEMA's website at https://www.fema.gov/sites/default/files/2020-04/Eco_Hardship_Waiver_FPS_SAFER_AFG_IB_FINAL.pdf.

Before the start of the FY 2024 AFG application period, FEMA conducted applicant internet webinars to inform potential applicants. In addition, FEMA provided applicants with information at the AFG website, https://www.fema.gov/grants/preparedness/firefighters, to help them prepare quality grant applications. The AFG Program Help Desk is staffed throughout the application period to assist applicants with the automated application process as well as answer any questions. Applicants can reach the AFG Program Help Desk through a toll-free telephone number Monday through Friday, 8 a.m.-4:30 p.m. ET at 866-274-0960 or electronic mail at firegrants@fema.dhs.gov.

Application Process

Organizations may submit one application per application period in each of the three AFG Program activities (e.g., one application for Operations and Safety, one for Vehicle Acquisition, and/or a separate application to be a Joint/Regional project host). If an organization submits more than one application for any single AFG Program activity (e.g., two applications for Operations and Safety, two for Vehicles), either intentionally or unintentionally, both applications may be disqualified.

Applicants may access the grant application electronically at https://go.fema.gov/. New applicants must register and establish a username and password for secure access to the grant application. Previous AFG Program applicants must use their previously established username and password.

Applicants are expected to answer questions about their grant request that reflect the AFG Program funding priorities. In addition, each applicant must complete four separate narratives for each project or grant activity requested. Grant applicants will also provide relevant information about their organization's characteristics, call volume, and existing organizational capabilities.

System for Award Management (SAM)

Per 2 CFR 25.200, all Federal grant applicants and recipients must register at https://sam.gov/content/home. SAM is the Federal Government's System for Award Management, and registration is free of charge.

Effective April 4, 2022, the Federal Government transitioned from using the Data Universal Numbering System or DUNS number, to a new, non-proprietary identifier known as a Unique Entity Identifier or UEI. For entities that had an active registration in SAM.gov before this date, the UEI has automatically been assigned and no action is necessary. For all entities filing a new registration in SAM.gov, the UEI will be assigned to that Entity as part of the SAM.gov registration process.

FEMA will not make a Federal award until the applicant has complied with all applicable SAM requirements. Therefore, an applicant's SAM registration must be active not only at the time of application, but also during the application review period and when FEMA is ready to make a Federal award.

Criteria Development Panel Recommendation

If there are any differences between the published AFG Program guidelines and the recommendations made by the CDP, FEMA must explain them and publish the information in the Federal Register before awarding any AFG grant.

Adopted Recommendations for FY 2024

Below is a list of changes between FY 2023 and FY 2024 to the AFG Program. The FY 2024 AFG Program funding notice contains some changes to definitions, descriptions, and priority categories. Changes include:

• Under Narrative Evaluation Criteria: A character count for each narrative section and a link to the Narrative Development Toolkit and Self-Evaluation sheets was added.

• Under Application Tips: Clarification that scores for applications with a mix of “High,” “Medium,” and “Low” priorities may be negatively impacted was added to this section. Applicants must consider priorities under each Activity listed in the NOFO when applying.

• Under Equipment Activity:

○ Clarification that FEMA will consider only “High” priority items for funding was added.

○ The following EMS equipment was added as High Priority:

• Suction Unit (non-disposable)

• CPAP Device

• Power Stair Chair

• Patient Carbon Monoxide Monitor

• Capnography/capnometer Device

• The following EMS equipment was added as Medium Priority:

• O2 Kit

• Non-disposable Splints

○ The following EMS equipment was added as Low Priority:

• Stretcher

• Backboard

• Trauma Bag

• Mass Casualty Kit

○ A clarification that non-construction repairs to fixed and mobile props for SFTA applicants cannot affect the building structure was added.

• Under Wellness and Fitness Activity: A clarification that Priority 1 programs must be already in place or requested in the application before Priority 2 programs will be considered for funding. In addition, the following items were added as ineligible:

• Saunas (including infrared)

• Hyperbaric chambers

• Ice baths

• Purchase of medical equipment

• Under Grant Writer/Preparation Fees: Clarification that the grant writer fee is subject to the cost share requirement was added.

• References in the funding notice to wildland fire were updated to wildfire where applicable.

• Eligible expenses for travel were updated to ensure uniformity within various activities funded.

• Minor updates to the AFG application were implemented to ensure equipment items are listed similarly to the funding notice.

• The following topics were discussed at the criteria development meeting but did not result in a recommendation for implementation:

• Changes to current equipment priority levels.

• Changes to Personal Protective Equipment activity, specific to replacement of air cylinders, PPE alternatives, and procurement of a second set of PPE gear.

• Changes to some of the existing definitions and guidance in the funding notice, specifically to the definition of a Combination fire department and changes to guidance for regional applications hosted by fire departments with nonaffiliated EMS organizations as partners.

• Additional considerations for applicants with little to no structural fire calls.

Recommendations Not Adopted for FY 2024

Below is a list of recommendations that were not adopted for FY 2024. These recommendations are considered long-term goals and are being evaluated for future consideration.

• CDP recommended utilizing technology (e.g., artificial intelligence) within the application that will collect data sets entered by each applicant to generate a Cost Benefit narrative.

• CDP recommended reorganization of Priority 2 Wellness and Fitness activities into high, medium, and low priorities with specific dropdowns in the application.

• CDP recommended that FEMA investigate the scoring elements/metrics used in vehicle application and vehicle pre-score calculation to ensure that various vehicle types being requested receive equal consideration.

Authority: 15 U.S.C. 2229.

Deanne Criswell,
Administrator, Federal Emergency Management Agency.

[FR Doc. 2025-01303 Filed 1-16-25; 8:45 am]

BILLING CODE 9111-64-P